DEPARTMENT OF TRANSPORTATION

Federal Transit Administration

Transit Asset Management (TAM) Pilot Program Funds

AGENCY: Federal Transit Administration (FTA), DOT.

ACTION: Transit Asset Management Pilot Program Announcement of Project Selections.

SUMMARY: The U.S. Department of Transportation's (DOT) Federal Transit Administration (FTA) announces the selection of projects funded with Research funds and supplemented by Bus Discretionary funds in support of the Transit Asset Management (TAM) Pilot Program, which was announced in the TAM Program Notice of Funding Availability on November 19, 2010. The TAM program makes funds available for public transportation providers, State Departments of Transportation (DOT), and Metropolitan Planning Organizations (MPO)—individually or in partnership—to demonstrate effective Transit Asset Management (TAM) systems and “best practices” which can be replicated to improve transportation asset management at the nation's rail and bus public transportation agencies.

FOR FURTHER INFORMATION CONTACT: Successful applicants should contact the appropriate FTA Regional Office (Appendix) for specific information regarding applying for the funds. For general information on the TAM Pilot Program, contact Doris Lyons Office of Program Management, at (202) 366-1656 or Doris.Lyons@dot.gov e-mail, or Aaron C. James, Sr., Office of Program Management, at (202) 493-0107, e-mail: Aaron.James@dot.gov

SUPPLEMENTARY INFORMATION: A total of $4 million was available for FTA's SGR Initiative. A total of 15 applicants requested approximately $13 million, indicating significant demand for funds. Project proposals were evaluated based on the criteria detailed in the November 19, 2010, Notice of Funding Availability. The transit asset management pilot projects which are listed below will help improve transportation asset management at the rail and bus public transportation agencies.

Transit Asset Management Selections
State | Recipient | Allocation
CA | Peninsula Corridor Joint Powers Board (CALTRAIN) | $750,000
ID | Valley Regional Transit | 300,000
IL | Regional Transportation Authority (Chicago) | 800,000
MA | Massachusetts Bay Transportation Authority | 950,000
UT | Utah Transit Authority (UTA) | 500,000
VA | Virginia Department of Rail and Public Transportation | 700,000
|  | 4,000,000

Grantees selected for funding should work with their FTA Regional Office (Appendix) to finalize the application in FTA's Transportation Electronic Award Management (TEAM) system, so that funds can be obligated expeditiously. Funds must be used for projects detailed in the proposals received and for the purposes specified in the project descriptions in the table. Selected projects have pre-award authority as of the date of this notice. Post-award reporting requirements, include but are not limited to submission of the Federal Financial Report (FFR) and Milestone Report in TEAM as appropriate (see FTA.C.5010.1D).

The grantee must comply with all applicable Federal statutes, regulations, executive orders, FTA circulars, and other Federal administrative requirements in carrying out the project supported by the FTA grant

Issued in Washington, DC, this 29th day of July 2011.
Peter Rogoff,
Administrator.

Appendix

FTA Regional and Metropolitan Offices
Mary E. Mello, Regional Administrator, Region 1—Boston, Kendall Square, 55 Broadway, Suite 920, Cambridge, MA 02142-1093, Tel. 617-494-2055. | Robert C. Patrick, Regional Administrator, Region 6—Ft. Worth, 819 Taylor Street, Room 8A36, Ft. Worth, TX 76102, Tel. 817-978-0550.
States served: Connecticut, Maine, Massachusetts, New Hampshire, Rhode Island, and Vermont. | States served: Arkansas, Louisiana, Oklahoma, New Mexico and Texas.
Brigid Hynes-Cherin, Regional Administrator, Region 2—New York, One Bowling Green, Room 429, New York, NY 10004-1415, Tel. 212-668-2170. | Mokhtee Ahmad, Regional Administrator, Region 7—Kansas City, MO, 901 Locust Street, Room 404, Kansas City, MO 64106, Tel. 816-329-3920.
States served: New Jersey, New York. | States served: Iowa, Kansas, Missouri, and Nebraska.
New York Metropolitan Office, Region 2—New York, One Bowling Green, Room 428, New York, NY 10004-1415, Tel. 212-668-2202. |
Letitia Thompson, Regional Administrator, Region 3—Philadelphia, 1760 Market Street, Suite 500, Philadelphia, PA 19103-4124, Tel. 215-656-7100. | Terry Rosapep, Regional Administrator, Region 8—Denver, 12300 West Dakota Ave., Suite 310, Lakewood, CO 80228-2583, Tel. 720-963-3300.
States served: Delaware, Maryland, Pennsylvania, Virginia, West Virginia, and District of Columbia. | States served: Colorado, Montana, North Dakota, South Dakota, Utah, and Wyoming.
Brian Glenn, Washington, DC Metropolitan Office, 1990 K Street, NW., Room 510, Washington, DC 20006, Tel. 202-219-3562. |
Yvette Taylor, Regional Administrator, Region 4—Atlanta, 230 Peachtreet Street, NW., Suite 800, Atlanta, GA 30303, Tel. 404-865-5600. | Leslie T. Rogers, Regional Administrator, Region 9—San Francisco, 201 Mission Street, Room 1650, San Francisco, CA 94105-1926, Tel. 415-744-3133.
States served: Alabama, Florida, Georgia, Kentucky, Mississippi, North Carolina, Puerto Rico, South Carolina, Tennessee, and Virgin Islands. | States served: American Samoa, Arizona, California, Guam, Hawaii, Nevada, and the Northern Mariana Islands.
| Los Angeles Metropolitan Office, Region 9—Los Angeles, 888 S. Figueroa Street, Suite 1850, Los Angeles, CA 90017-1850, Tel. 213-202-3952.
Marisol Simon, Regional Administrator, Region 5—Chicago, 200 West Adams Street, Suite 320, Chicago, IL 60606, Tel. 312-353-2789. | Rick Krochalis, Regional Administrator, Region 10—Seattle, Jackson Federal Building, 915 Second Avenue, Suite 3142, Seattle, WA 98174-1002, Tel. 206-220-7954.
States served: Illinois, Indiana, Michigan, Minnesota, Ohio, and Wisconsin. | States served: Alaska, Idaho, Oregon, and Washington.
Chicago Metropolitan Office, Region 5—Chicago, 200 West Adams Street, Suite 320, Chicago, IL 60606, Tel. 312-353-2789. |

[FR Doc. 2011-19708 Filed 8-3-11; 8:45 am]

BILLING CODE P